DEPARTMENT OF THE TREASURY

Office of Foreign Assets Control

Notice of OFAC Sanctions Actions

Sub-Agency: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Action(s)

On January 13, 2020, OFAC determined that the property and interests in property subject to U.S. jurisdiction of the following persons are blocked under the relevant sanctions authorities listed below.

Individuals:

1. NORIEGA FIGUEROA, Jose Gregorio, Sucre, Venezuela; DOB 21 Feb 1969; Gender Male; Cedula No. V-8348784 (Venezuela) (individual) [VENEZUELA].

Designated pursuant to section 1(a)(ii)(C) of Executive Order 13692 of March 8, 2015, “Blocking Property and Suspending Entry of Certain Persons Contributing to the Situation in Venezuela,” 80 FR 12747, 3 CFR, 2015 Comp., p. 276 (E.O. 13692), as amended by Executive Order 13857 of January 25, 2019, “Taking Additional Steps To Address the National Emergency With Respect to Venezuela,” 84 FR 509 (E.O. 13857), for being a current or former official of the Government of Venezuela.

2. PARRA RIVERO, Luis Eduardo, Yaracuy, Venezuela; DOB 07 Jul 1978; Gender Male; Cedula No. V-14211633 (Venezuela) (individual) [VENEZUELA].

Designated pursuant to section 1(a)(ii)(C) of E.O. 13692, as amended by E.O. 13857, for being a current or former official of the Government of Venezuela.

3. BRITO RODRIGUEZ, Jose Dionisio, Anzoategui, Venezuela; DOB 15 Jan 1972; Gender Male; Cedula No. V-8263861 (Venezuela) (individual) [VENEZUELA].

Designated pursuant to section 1(a)(ii)(C) of E.O. 13692, as amended by E.O. 13857, for being a current or former official of the Government of Venezuela.

4. DUARTE, Franklyn Leonardo, Tachira, Venezuela; DOB 15 May 1977; Gender Male; Cedula No. V-13304045 (Venezuela) (individual) [VENEZUELA].

Designated pursuant to section 1(a)(ii)(C) of E.O. 13692, as amended by E.O. 13857, for being a current or former official of the Government of Venezuela.

5. MORALES LLOVERA, Negal Manuel, Miranda, Venezuela; DOB 08 Mar 1972; Gender Male; Cedula No. V-9670642 (Venezuela) (individual) [VENEZUELA].

Designated pursuant to section 1(a)(ii)(C) of E.O. 13692, as amended by E.O. 13857, for being a current or former official of the Government of Venezuela.

6. PEREZ LINARES, Conrado Antonio, Trujillo, Venezuela; DOB 24 May 1982; Gender Male; Cedula No. V-15584063 (Venezuela) (individual) [VENEZUELA].

Designated pursuant to section 1(a)(ii)(C) of E.O. 13692, as amended by E.O. 13857, for being a current or former official of the Government of Venezuela.

7. SUPERLANO, Adolfo Ramon, Barinas, Venezuela; DOB 07 Jun 1954; Gender Male; Cedula No. V-4262374 (Venezuela) (individual) [VENEZUELA].

Designated pursuant to section 1(a)(ii)(C) of E.O. 13692, as amended by E.O. 13857, for being a current or former official of the Government of Venezuela.

Dated: January 13, 2020.
Andrea Gacki,
Director, Office of Foreign Assets Control.

[FR Doc. 2020-00613 Filed 1-15-20; 8:45 am]

BILLING CODE 4810-AL-P